DEPARTMENT OF LABOR

Employment and Training Administration

[TA-W-85, 302]

Kimberly Carbonates, LLC, a Wholly Owned Subsidiary of Omya, Inc., Including On-Site Leased Workers From US Tech Force, Kimberly, Wisconsin; Amended Certification Regarding Eligibility To Apply for Worker Adjustment Assistance and Alternative Trade Adjustment Assistance

In accordance with Section 223 of the Trade Act of 1974, as amended (“Act”), 19 U.S.C. 2273, the Department of Labor issued a Certification of Eligibility to Apply for Worker Adjustment Assistance on July 16, 2014, applicable to workers of Kimberly Carbonates, LLC, a wholly owned subsidiary of Omya, Inc., Kimberly, Wisconsin (subject firm). The Department's notice of determination was published in the Federal Register on August 7, 2014 (79 FR 46278). The workers were engaged in activities related to the production of ground calcium carbonate.

At the request of a State of Wisconsin, the Department reviewed the certification for workers of the subject firm.

The State asserts that workers leased from US Tech Force were employed on-site at the Kimberly, Wisconsin location of Kimberly Carbonates, LLC. The Department has determined that these workers were sufficiently under the control of the subject firm.

Based on these findings, the Department is amending this certification to include workers leased from US Tech Force working on-site at the Kimberly, Wisconsin location of Kimberly Carbonates, LLC.

The amended notice applicable to TA-W-85,302 is hereby issued as follows:

All workers of Kimberly Carbonates, LLC, a wholly owned subsidiary of Omya, Inc., including on-site leased workers from US Tech Force, Kimberly, Wisconsin, who became totally or partially separated from employment on or after May 12, 2013 through July 16, 2016, are eligible to apply for adjustment assistance under Chapter 2 of Title II of the Trade Act of 1974, as amended, and are also eligible to apply for alternative trade adjustment assistance under Section 246 of the Trade Act of 1974, as amended.

Signed in Washington, DC, this 19th day of April, 2016.
Hope D. Kinglock,
Certifying Officer, Office of Trade Adjustment Assistance.

[FR Doc. 2016-12091 Filed 5-23-16; 8:45 am]

BILLING CODE 4510-FN-P